EXPORT-IMPORT BANK OF THE U.S.

[Public Notice 2011-0030]

Agency Information Collection Activities: Proposed Collection; Comment Request

AGENCY: Export-Import Bank of the U.S.

ACTION: 30-Day notice of submission of information collection approval from the Office of Management and Budget and request for comments.

Form Title: Generic Information Collection Requests.

SUMMARY: As part of the Federal Government-wide effort to streamline the process to seek feedback from the public on service delivery, the Export-Import Bank of the United States (Ex-Im Bank), has submitted a Generic Information Collection Request (Generic ICR): “Generic Clearance for the Collection of Qualitative Feedback on Agency Service Delivery” to OMB for approval under the Paperwork Reduction Act (PRA) (44 U.S.C. 3501 et seq.)

DATES: Comments must be submitted by April 8, 2011 to be considered.

ADDRESSES: Comments may be submitted through www.Regulations.Gov or mailed to Office of Information and Regulatory Affairs, 725 17th Street, NW., Washington, DC 20038 attn: OMB 3048-xxxx.

FOR FURTHER INFORMATION CONTACT: To request additional information, please contact Sharon A. Whitt, sharon.whitt@exim.gov.

SUPPLEMENTARY INFORMATION:

Title: Generic Clearance for the Collection of Qualitative Feedback on Agency Service Delivery.

Abstract: The information collection activity will garner qualitative customer and stakeholder feedback in an efficient, timely manner, in accordance with the Administration's commitment to improving service delivery. By qualitative feedback we mane information that provides useful insights on perceptions and options, but are not statistical surveys that yield qualitative results that can be generalized to the population of the study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collection under this generic clearance will provide useful information, but it will not yield data that can be generalized to the overall population. This type of generic clearance for qualitative information will not be used for quantitative information collections that are designed to yield reliably actionable results, such as monitoring trends over time or documenting program performance. Such data used require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

The Agency received no comments in response to the 60-day notice published in the Federal Register on December 22, 2010 (75 FR 80542).

A variety of instruments and platforms will be used to collect information from the respondents see below:

Survey Type.

Web based/e-mail based survey.

Feedback/Comment Evaluation Form.

Detailed Mail Evaluation Form.

Telephone.

Focus Group.

Current Actions: New collection of information.

Type of Review: New collection.

Affected Public: Individuals and Households, Businesses and Organizations, State, Local or Tribal Government.

Average Expected Annual Number of Activities: 10.

Respondents: 15,100.

Annual Responses: 4,700.

Frequency of Response: Once per request.

Average minutes per response: 15.

Burden hours: 6,700.

Feedback collected under this generic clearance provides useful information, but it does not yield data that can be generalized to the overall population. Findings will be used for general service improvement, but are not for publication or other public release.

Although the Agency does not intend to publish its findings, the Agency may receive requests to release the information (e.g., congressional inquiry, Freedom of Information Act requests). The Agency will disseminate the findings when appropriate, strictly following the Agency's “Guidelines for Ensuring the Quality of Information Disseminated to the Public.”, and will include specific discussion of the limitation of the qualitative results discussed above.

An agency may not conduct or sponsor, and a person is not required to respond to, a collection of information unless it displays a valid Office of Management and Budget control number.

Sharon A. Whitt,
Agency Clearance Officer.

[FR Doc. 2011-5306 Filed 3-8-11; 8:45 am]

BILLING CODE 6690-01-P